DEPARTMENT OF EDUCATION

President's Advisory Commission on Advancing Educational Equity, Excellence, and Economic Opportunity for Hispanics

AGENCY: Department of Education, President's Advisory Commission on Advancing Educational Equity, Excellence, and Economic Opportunity for Hispanics.

ACTION: Announcement of an open meeting.

SUMMARY: This notice sets forth the agenda for the January 26, 2024, meeting of the President's Advisory Commission on Advancing Educational Equity, Excellence, and Economic Opportunity for Hispanics (Commission), and how members of the public may attend the meeting and submit written comments pertaining to the work of the Commission. Notice of this meeting is required by section 1009(a)(2) of 5 U.S.C. chapter 10 (Federal Advisory Committees)

DATES: The meeting of the Commission will be held on Friday, January 26, 2024, from 12 p.m. to 5 p.m. Eastern Standard Time.

ADDRESSES: U.S. Department of Commerce Herbert Hoover Building, 1401 Constitutional Avenue NW, Washington, DC 20230. Members of the public can attend the meeting in-person or virtually.

FOR FURTHER INFORMATION CONTACT: Emmanuel Caudillo, Designated Federal Official, President's Advisory Commission on Advancing Educational Equity, Excellence, and Economic Opportunity for Hispanics, U.S. Department of Education, 400 Maryland Avenue SW, Room 7E220, Washington, DC 20202, telephone: (202) 453-5529, or email: Emmanuel.Caudillo@ed.gov.

SUPPLEMENTARY INFORMATION:

The Commission's Statutory Authority and Function: The Commission is established by Executive Order 14045 (September 13, 2021) and continued by Executive Order 14109 (September 29, 2023). The Commission is also governed by the provisions of 5 U.S.C. chapter 10 (Federal Advisory Committees), which sets forth standards for the formation and use of advisory committees. The Commission's duties are to advise the President, through the Secretary of Education, on matters pertaining to educational equity and economic opportunity for the Hispanic and Latino community in the following areas: (i) what is needed for the development, implementation, and coordination of educational programs and initiatives at the U.S. Department of Education (Department) and other agencies to improve educational opportunities and outcomes for Hispanics and Latinos; (ii) how to promote career pathways for in-demand jobs for Hispanic and Latino students, including registered apprenticeships, internships, fellowships, mentorships, and work-based learning initiatives; (iii) ways to strengthen the capacity of institutions, such as Hispanic-serving Institutions, to equitably serve Hispanic and Latino students and increase the participation of Hispanic and Latino students, Hispanic-serving school districts, and the Hispanic community in the programs of the Department and other agencies; (iv) how to increase public awareness of and generate solutions for the educational and training challenges and equity disparities that Hispanic and Latino students face and the causes of these challenges; and (v) approaches to establish local and national partnerships with public, private, philanthropic, and nonprofit stakeholders to advance the mission and objectives of this order, consistent with applicable law.

Meeting Agenda: The agenda for the Commission meeting builds upon conversations and information shared in the Commission's four prior meetings and will provide an outlook at the Commission's 2024 plans. Specifically, during the meeting, the Commission will (1) receive updates and vote on recommendations from the Commission's four subcommittees: Advancing PreK-12 Educational Equity; Advancing Higher Education and Hispanic Serving Institutions (HSIs); Strengthening Economic Opportunity & Workforce Development; and Strengthening Public Partnerships and Public Awareness; (2) hear presentations from federal and community leaders on topics related to Executive Order 14045; and (3) and discuss strategies to advance the Commission's approved recommendations from prior meetings and next steps towards advancing duties of the Commission, as outlined by Executive Order 14045.

Access to the Meeting: Members of the public may register to attend the meeting virtually by accessing the link at https://www.ed.gov/hispanicinitiative or emailing WhiteHouseHispanicInitiative@ed.gov by 5 p.m. EST on Tuesday, January 23, 2024, for in-person attendance, and by 5 p.m. EST on Thursday, January 25, 2024. Instructions on how to access the meeting will be emailed to members of the public that register to attend and will be posted to https://www.ed.gov/hispanicinitiative no later than Thursday, January 25, 2024, by 6 p.m. EST.

Public Comment: Written comments pertaining to the work of the Commission may be submitted electronically to WhiteHouseHispanicInitiative@ed.gov by 5 p.m. EST on Thursday, January 25, 2024. Include in the subject line: “Written Comments: Public Comment.” The email must include the name(s), title, organizations/affiliation, mailing address, email address, and telephone number of the person(s) making the comment. Comments should be submitted as a Microsoft Word document or in a medium compatible with Microsoft Word (not a PDF file) that is attached to the electronic mail message (email) or provided in the body of an email message. Please do not send material directly to members of the Commission.

Reasonable Accommodations: The meeting platform and access code are accessible to individuals with disabilities. If you will need an auxiliary aid or service for the meeting (e.g., interpreting service, assistive listening device, or materials in an alternate format), notify the contact person listed in this notice at least one week before the meeting date. Although we will attempt to meet a request received after that date, we may not be able to make available the requested auxiliary aid or service because of insufficient time to arrange it.

Access to Records of the Meeting: The Department will post the official report of the meeting on the Commission's website, at https://sites.ed.gov/hispanic-initiative/presidential-advisory-commission no later than 90 days after the meeting. Pursuant to 5 U.S.C. 1009(b), the public may request to inspect records of the meeting, and other Commission records, at 400 Maryland Avenue SW, Washington, DC, by emailing Emmanuel.Caudillo@ed.gov or by calling (202) 453-5529 to schedule an appointment.

Electronic Access to this Document: The official version of this document is the document published in the Federal Register. Free internet access to the official edition of the Federal Register and the Code of Federal Regulations is available via the Federal Digital System at: www.gpo.gov/fdsys. At this site you can view this document, as well as all other documents of this Department published in the Federal Register, in text or PDF. To use PDF, you must have Adobe Acrobat Reader, which is available free at the site. You also may access documents of the Department published in the Federal Register by using the article search feature at: www.federalregister.gov. Specifically, through the advanced search feature at this site, you can limit your search to documents published by the Department.

Authority: Executive Order 14045 (September 13, 2021) and continued by Executive Order 14109 (September 29, 2023)

Alexis Barrett,
Chief of Staff, Office of the Secretary.

[FR Doc. 2024-00548 Filed 1-11-24; 8:45 am]

BILLING CODE 4000-01-P